DEPARTMENT OF HEALTH AND HUMAN SERVICES

Centers for Disease Control and Prevention

Disease, Disability, and Injury Prevention and Control Special Emphasis Panel (SEP): Initial Review

The meeting announced below concerns, Health Promotion and Disease Prevention Research Centers: Special Interest Project Competitive Supplements, DP15-008, initial review.

SUMMARY: This document corrects a notice that was published in the Federal Register on May 18, 2015, Volume 80, Number 95, page 28273. This meeting is canceled in its entirety.

FOR FURTHER INFORMATION CONTACT: Brenda Colley Gilbert, Ph.D., M.S.P.H., Director, Extramural Research Program Operations and Services, CDC, 4770 Buford Highway NE., Mailstop F-80, Atlanta, Georgia 30341, Telephone: (770) 488-6295, BJC4@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2015-13884 Filed 6-5-15; 8:45 am]

BILLING CODE 4163-18-P